CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed Nonprofit Capacity Building Program Progress Report. The Progress Report consists of two parts: A Progress Report Narrative and a Performance Measurement Reporting Workbook. The Progress Report is completed semi-annually by Nonprofit Capacity Building Grantees to summarize project accomplishments, challenges, resources generated, and progress toward achieving project goals and objectives.

Copies of the information collection request can be obtained by contacting the office listed in the addresses section of this notice.

DATES: Written comments must be submitted to the individual and office listed in the ADDRESSES section by December 19, 2011.

ADDRESSES: You may submit comments, identified by the title of the information collection activity, by any of the following methods:

(1) By mail sent to: Corporation for National and Community Service, Minnesota State Office; Attention Jaime Renner, State Program Specialist, Suite 2405; 431 South 7th Street, Minneapolis, MN 55415.

(2) By hand delivery or by courier to the mail address given in paragraph (1) above, between 9 a.m. and 4 p.m. Eastern Time, Monday through Friday, except Federal holidays.

(3) By fax to: (612) 334-4084, Attention Jaime Renner, State Program Specialist.

(4) Electronically through the Corporation's e-mail address system: jrenner@cns.gov or http://www.regulations.gov. Individuals who use a telecommunications device for the deaf (TTY-TDD) may call 1-800-833-3722 between 8 a.m. and 8 p.m. Eastern Time, Monday through Friday.

FOR FURTHER INFORMATION CONTACT: Jaime Renner, (612) 334-4085, or by e-mail at jrenner@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The purpose of the Nonprofit Capacity Building Program is to increase the capacity of a small number of intermediary grantees to provide specific assistance to improve the sustainability of and expand services provided by small and midsize nonprofits in communities facing resource hardship challenges. The Progress Report is completed semi-annually by Nonprofit Capacity Building Program Grantees to summarize project accomplishments, challenges, resources generated, and progress toward achieving project goals and objectives.

Current Action

This is a new information collection request. The Corporation seeks input on the Progress Report which consists of two parts: a Progress Report Narrative and a Performance Measurement Reporting Workbook. The Corporation is proposing to enhance data elements collected to better measure progress on whether the assistance being provided results in improved sustainability or expanded services.

Type of Review: New.

Agency: Corporation for National and Community Service.

Title: Nonprofit Capacity Building Program Progress Report.

OMB Number: None.

Agency Number: None.

Affected Public: Current sponsoring organizations and subsite organizations and potential sponsoring organizations and subsite organizations.

Total Respondents: 10.

Frequency: Semi-annually.

Average Time per Response: Averages six (6) hours.

Estimated Total Burden Hours: 60 hours.

Total Burden Cost (capital/startup): None.

Total Burden Cost (operating/maintenance): None.

Comments submitted in response to this notice will be summarized and/or included in the request for Office of Management and Budget approval of the information collection request; they will also become a matter of public record.

Dated: October 12, 2011.
Bruce Cline,
Colorado State Program Director, Nonprofit Capacity Building Program Officer.

[FR Doc. 2011-27100 Filed 10-19-11; 8:45 am]

BILLING CODE 6050-$$-P